DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Application for Low-Power Television and Translator Upgrade Program.

OMB Control Number: None.

Form Number(s): None.

Type of Request: Regular submission.

Number of Respondents: 1,250.

Average Hours per Response: 1 hour and 15 minutes.

Burden Hours: 1,563.

Needs and Uses: The Digital Television Transition and Public Safety Act of 2005 (Act), as amended by the DTV Delay Act, Public Law 111-4, permits low-power television and translator stations to continue to broadcast in analog after June 12, 2009, the date on which full-power television facilities are required to convert to digital broadcasting. Most low-power television or translator stations extend the service area of a full-power television station by receiving the full-power station's off-air signal and then rebroadcasting the programming on another channel.

The Act directs NTIA to administer a program through which an eligible low-power television or translator station may receive reimbursement for equipment to upgrade low-power television stations from analog to digital in eligible rural communities.

The information collection will be used by NTIA to receive applications from low-power television and translator stations requesting Federal reimbursement toward the purchase of digital transmission equipment. The applications will be used by NTIA to determine the eligibility of applicant stations to receive funds from the Upgrade Program and to determine those stations eligible for priority compensation.

Affected Public: Business or other for-profit organizations; not-for-profit institutions.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Nicholas Fraser, OMB Desk Officer, FAX number (202) 395-5806, or Nicholas_A._Fraser@omb.eop.gov.

Dated: March 10, 2009.
Gwellnar Banks,
Management Analyst, Office of the Chief Information Officer.

[FR Doc. E9-5542 Filed 3-13-09; 8:45 am]

BILLING CODE 3510-60-P